ENVIRONMENTAL PROTECTION AGENCY

[EPA-HQ-OW-2015-0595; FRL-9935-88-OW]

Notice of Public Meeting and Webinar and Request for Comment on the Draft Document “Technologies for Legionella Control: Scientific Literature Review”

AGENCY: Environmental Protection Agency (EPA).

ACTION: Notice of public meeting and request for comment.

SUMMARY: The U.S. Environmental Protection Agency (EPA) announces the release of a draft document, “Technologies for Legionella Control: Scientific Literature Review,” for public review and comment, and a public meeting, during which EPA will be seeking input on the draft document. The purpose of the draft document is to characterize the current state of knowledge regarding the use and effectiveness of available control technologies and approaches that can be used to address Legionella public health concerns in building water systems. The term “building water system” refers to the pipe infrastructure inside a building used to deliver finished drinking water intended for human consumption. For the purpose of this draft document, the term excludes cooling towers. The draft document presents scientific information from peer reviewed literature related to control technologies. It does not rank or recommend any one technology over another. EPA developed the document to provide a non-regulatory tool to assist states and primacy agencies, building water system operators and building owners when making decisions about Legionella risk management options. Following the public review and comment opportunity, EPA will conduct an independent, expert peer review of the draft document before it is finalized and published.

DATES: The public meeting will be held on November 9, 2015, from 1:00 p.m. to 5:30 p.m., eastern time. Persons wishing to attend the meeting in-person or online via webinar must register by November 3, 2015, as described in the SUPPLEMENTARY INFORMATION section. EPA will consider written comments received prior to November 23, 2015, when preparing the document for the external peer review.

ADDRESSES: The public meeting will be held at the EPA Potomac Yard South Building, 1st Floor Conference Center (One Potomac Yard, 2777 S. Crystal Drive, Arlington, VA 22202). All attendees must show government-issued photo identification (e.g., a driver's license) when signing in. This meeting will be simultaneously broadcasted as a webinar, available on the Internet.

FOR FURTHER INFORMATION CONTACT: For technical questions, contact César Cordero, Standards and Risk Management Division, Office of Ground Water and Drinking Water at (202) 564-3716 or cordero.cesar@epa.gov. For questions regarding registration for the public meeting, contact Sarah Rains at (703) 247-6195 or LegionellaMeeting@cadmusgroup.com.

SUPPLEMENTARY INFORMATION:

I. General Information

A. What is the scope and the intended audience of the draft document?

The draft document provides an overview of Legionella ecology, physiology, occurrence and other topics relevant to the microorganism; an overview of systemic considerations for Legionella control; information on the current state of knowledge regarding the use and effectiveness of available control technologies for prevention and control of Legionella; a discussion about potential water quality issues that may result from the use of such technologies; and information on optimal operational conditions for the use of control technologies. Legionella control issues in cooling towers are beyond the scope of the document. The target audience for the document includes, but is not limited to, primacy agencies, building water system operators, building owners and technology developers and vendors.

B. How can I get copies of the draft document and other related information, and submit written comments?

The draft document and other related information will be available in the Water Docket, identified by docket identification (ID) number EPA-HQ-OW-2015-0595, which is available at http://www.regulations.gov or at the Water Docket, Environmental Protection Agency, Room 3334, 1301 Constitution Ave. NW., Washington, DC. The Public Reading Room is open from 8:30 a.m. to 4:30 p.m., Monday through Friday, excluding legal holidays. The telephone number for the Public Reading Room is (202) 566-1744, and the telephone number for the Water Docket is (202) 566-2426. Please review the visitor instructions and additional information about the docket, available at http://www2.epa.gov/dockets.

Comments: Submit your comments, identified by Docket ID No. EPA-HQ-OW-2015-0595, to the Federal eRulemaking Portal: http://www.regulations.gov. Follow the online instructions for submitting comments. Do not submit electronically any information you consider to be Confidential Business Information (CBI) or other information whose disclosure is restricted by statute. If you need to include CBI as part of your comment, please visit http://www2.epa.gov/dockets/comments.html for instructions. The written comment is considered the official comment and should include discussion of all points that you wish to make about the scientific aspects of the Legionella control technologies.

For additional submission methods, the full EPA public comment policy and general guidance on making effective comments, please visit http://www2.epa.gov/dockets/comments.html.

When preparing the document for external peer review, EPA will consider written comments received prior to November 23, 2015.

C. How may I participate in this meeting/webinar?

Persons wishing to attend the public meeting in-person or online via webinar must register in advance no later than 5:00 p.m., eastern time on November 3, 2015. To register, go online to Eventbrite at https://us-epa-legionella-drinking-water.eventbrite.com. Teleconferencing will be available for individuals participating via the webinar. The number of seats and webinar connections available for the meeting is limited and will be offered on a first-come, first-served basis. Early registration is strongly encouraged to ensure proper accommodations. EPA will do its best to include all those interested in either meeting in-person or online via webinar.

At the public meeting, EPA will present an overview of the draft document and will solicit public comments about the scientific aspects of available Legionella control technologies. The agenda for the public meeting will include time for public comment. To ensure adequate time for public comment, individuals or organizations interested in making a statement should mention their intent when they register.

Meeting Materials: Meeting materials will be sent by email to the registered attendees prior to the public meeting; copies will also be provided for attendees at the meeting and available in the Water Docket, identified by Docket ID No. EPA-HQ-OW-2015-0595.

Special Accommodations: Individuals with disabilities who wish to attend the meeting in person can request special accommodations by contacting Jini Mohanty at mohanty.jini@epa.gov. Please allow at least five business days prior to the meeting to give EPA time to process your request.

II. Background

Legionella is a bacterium commonly found in aquatic environments. It grows best in warm water environments and can be found in premise plumbing in large buildings, hot tubs, hot water tanks, decorative fountains, large plumbing systems (such as might be found in hospitals) and cooling towers. People who breathe in a mist or vapor that has been contaminated with Legionella can contract Legionnaire's disease or Pontiac fever (both referred to as legionellosis). Legionellosis is a major health concern associated with drinking water. Cases of legionellosis and fatalities have been associated with the occurrence of Legionella in building water systems. In response to the threat to public health, some building owners have installed supplemental treatment systems to prevent and control for Legionella. Some states have requested technical assistance from EPA with regards to evaluating effectiveness of control technologies. The agency expects the final document will help to further improve public health by helping states, building owners and operators make science-based, risk management decisions regarding treatment and control of Legionella in buildings.

III. How will the Agency finalize the document?

Through this notice, EPA is announcing an opportunity for the public to provide input on the draft document in writing and/or verbally at the public meeting and webinar. EPA will conduct an independent, expert peer review following the public review and comment period.

Comments from the public and external peer reviewers will be considered as EPA finalizes the document.

IV. What input is the Agency seeking from the public?

The Agency is particularly interested in input from the public related to the following questions:

1. How well does the document accurately characterize the available, peer reviewed literature on the effectiveness of different technologies for control of Legionella?

2. What is your perspective on whether the characterization of each technology is balanced and supported by the available, peer reviewed scientific information?

3. What suggestions do you have to improve the document so that it can better support informed public health protection decisions and avoid or minimize unintended consequences?

Dated: October 13, 2015.
Kenneth J. Kopocis,
Deputy Assistant Administrator, Office of Water.

[FR Doc. 2015-26771 Filed 10-20-15; 8:45 am]

BILLING CODE 6560-50-P